DEPARTMENT OF AGRICULTURE

Animal and Plant Health Inspection Service

[Docket No. APHIS-2016-0023]

Notice of Request for Approval of an Information Collection; National Animal Health Monitoring System; Antimicrobial Use Studies

AGENCY: Animal and Plant Health Inspection Service, USDA.

ACTION: New information collection; comment request.

SUMMARY: In accordance with the Paperwork Reduction Act of 1995, this notice announces the Animal and Plant Health Inspection Service's intention to request approval of a new information collection associated with the National Animal Health Monitoring System's studies on antimicrobial use in cattle feedlot and swine operations.

DATES: We will consider all comments that we receive on or before September 12, 2016.

ADDRESSES: You may submit comments by either of the following methods:

• Federal eRulemaking Portal: Go to http://www.regulations.gov/#!docketDetail;D=APHIS-2016-0023.

• Postal Mail/Commercial Delivery: Send your comment to Docket No. APHIS-2016-0023, Regulatory Analysis and Development, PPD, APHIS, Station 3A-03.8, 4700 River Road Unit 118, Riverdale, MD 20737-1238.

Supporting documents and any comments we receive on this docket may be viewed at http://www.regulations.gov/#!docketDetail;D=APHIS-2016-0023 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Antimicrobial Use Studies, contact Mr. William Kelley, Supervisory Management and Program Analyst, Center for Epidemiology and Animal Health, VS, APHIS, 2150 Centre Avenue, Building B, MS 2E6, Fort Collins, CO 80526; (970) 494-7270. For copies of more detailed information on the information collection, contact Ms. Kimberly Hardy, APHIS' Information Collection Coordinator, at (301) 851-2727.

SUPPLEMENTARY INFORMATION: Title: National Animal Health Monitoring System; Antimicrobial Use Studies.

OMB Control Number: 0579-XXXX.

Type of Request: Approval of a new information collection.

Abstract: Under the Animal Health Protection Act (7 U.S.C. 8301 et seq.), the Animal and Plant Health Inspection Service (APHIS) of the U.S. Department of Agriculture is authorized, among other things, to protect the health of U.S. livestock and poultry populations by preventing the introduction and interstate spread of serious diseases and pests of livestock and by eradicating such diseases from the United States when feasible. In connection with this mission, APHIS operates the National Animal Health Monitoring System (NAHMS), which collects data on the prevalence and economic importance of livestock diseases and associated risk factors.

NAHMS' national studies are a collaborative industry and government initiative to help determine the most effective means of preventing and controlling diseases of livestock. APHIS is the only agency responsible for collecting data on livestock health.

On March 20, 2012, NAHMS was recognized by the Office of Management and Budget (OMB) as a statistical unit under the Confidential Information Protection and Statistical Efficiency Act of 2002. In accordance with the Confidential Information Protection provisions of Title V, Subtitle A, Public Law 107-347, and other applicable Federal laws, all data provided to NAHMS under the antimicrobial use studies will be kept confidential and will not be disclosed in any identifiable form. Only NAHMS staff and designated agents will be permitted access to individual-level data. All information acquired under antimicrobial use studies will be used for statistical purposes only.

APHIS plans to initiate two annual antimicrobial use studies, one on cattle feedlots and one on swine operations. The studies' objectives are to describe antimicrobial use practices on livestock operations annually, including the impacts of U.S. Food and Drug Administration policy changes. The antimicrobial use studies will consist of Antimicrobial Use Producer Agreements and questionnaires administered by National Agricultural Statistics Service personnel. Information collected will be analyzed and organized by NAHMS into one or more descriptive reports containing summary statistics. The information will be used to describe current antimicrobial use practices; help policymakers and industry make informed decisions; assist researchers and private enterprise in identifying and focusing on vital issues related to antimicrobial use; facilitate education of future producers and veterinarians; and collect data capable of informing responses to objectives 2.4.3 and 2.4.4 of the National Action Plan for Combating Antibiotic-Resistant Bacteria.

We are asking OMB to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.4276 hours per response.

Respondents: Cattle feedlot personnel and swine owners and operators.

Estimated annual number of respondents: 7,200.

Estimated annual number of responses per respondent: 1.5.

Estimated annual number of responses: 10,800.

Estimated total annual burden on respondents: 4,618 hours. (Due to averaging, the total annual burden hours may not equal the product of the annual number of responses multiplied by the reporting burden per response.)

All responses to this notice will be summarized and included in the request for OMB approval. All comments will also become a matter of public record.

Done in Washington, DC, this 8th day of July 2016.
Kevin Shea,
Administrator, Animal and Plant Health Inspection Service.

[FR Doc. 2016-16612 Filed 7-13-16; 8:45 am]

BILLING CODE 3410-34-P